POSTAL SERVICE

39 CFR Part 111

New Specifications for Automated Flats

AGENCY: Postal Service.

ACTION: Final rule.

SUMMARY: The Automated Flat Sorting Machine (AFSM) 100 represents the next step into the automated processing environment envisioned for flat-size mail (“flats”). Mailpieces that currently qualify for automation rates for flats under Flat Sorting Machine (FSM) 881 standards (Domestic Mail Manual C820.2.0) will be eligible for the automation rates, provided that the pieces meet the physical criteria for processing on the AFSM 100 and other applicable preparation requirements.

EFFECTIVE DATE: This final rule is effective at 12:01 a.m. on June 30, 2002.

FOR FURTHER INFORMATION CONTACT: Karen A. Magazino, 703-292-3644.

SUPPLEMENTARY INFORMATION: On April 17, 2002, the Postal Service published for public comment in the Federal Register a proposed rule (67 FR 18842) that provided information on the implementation of automation rates for pieces prepared as automation flats that meet the physical mailpiece requirements for the AFSM 100. The revised Domestic Mail Manual (DMM) standards published with this final rule become effective June 30, 2002.

Deployment of 534 AFSM 100s has been completed in major processing and distribution centers nationwide. With deployment of the AFSM 100s, the older FSM 881s are being phased out. Currently, pieces may qualify for an automation rate for flats based on the FSM 881 physical criteria defined in DMM C820. The Postal Service will replace the current FSM 881 standards, with new criteria based on the physical mailpiece requirements for the AFSM 100. Flat-size mailpieces must continue to meet the uniformity requirements in DMM C820.8.0.

Processing mail on the AFSM 100 provides tremendous savings opportunities. One of the Postal Service's objectives is to reduce processing costs by moving the processing of flats from a labor-intensive manual/mechanized environment to a more efficient automated mode. The additional machine capacity provided by AFSM 100 deployment reduces the overall amount of mail processed in manual/mechanized operations.

The processing and technological capabilities of the AFSM 100 are vastly superior to those of the FSM 881. The AFSM 100 has three automatic feeders with throughput rates capable of exceeding 17,000 pieces per hour, and 120 individual sort separations. Challenges that arise with high-speed feeders compared with manual inductions include singulation (double feeds) and acceleration (jams and stoppages).

The AFSM 100 also has optical character reader (OCR) and barcode reader (BCR) functionality. The reader first scans the inducted mailpiece in search of an address block and barcode. If a POSTNET barcode is found, the piece is sorted based on the ZIP Code information. If a POSTNET barcode is not found or cannot be read, the OCR looks for the delivery address and the piece is sorted based on the result returned by the OCR. If the address is unreadable by the OCR, a video-coding operator must key the image and the piece is then sorted to the correct bin or worked manually. The AFSM 100 does not apply (spray on) a POSTNET barcode.

To determine the range of mailpieces compatible with the AFSM 100, the Postal Service conducted controlled tests using a variety of physical mailpiece characteristics. Three mail characteristic studies were performed: a preliminary test in Baltimore, Maryland, from February 26, 2001, to March 13, 2001; a test in Denver, Colorado, from July 9, 2001, to August 1, 2001; and a study to determine maximum weight conducted in Palatine, Illinois, from February 25, 2002, to March 12, 2002.

The mailing industry assisted the Postal Service and supplied many of the mailpieces that were processed during the tests. The mailing industry's participation and coordinated efforts were crucial to the successful outcome of the tests.

The AFSM 100 preliminary test was designed with specific analytical objectives, including: (1) Identifying mailpiece characteristic ranges that would require additional data to determine automation compatibility, (2) identifying factors that would have a significant impact on sorter performance, (3) providing data that would identify threshold levels, and (4) determining mailpiece characteristics that would not require further testing. The test included the evaluation of a large number of mailpiece characteristics and a subset of combinations, each individually replicated over several test decks. The data represented jams, double feeds, miss-sorts, thickness, weight limitations, physical dimensions, mechanical rejects, and mailpiece damage. In addition, the Postal Service tested several different polywrap materials to analyze factors such as seam and wrap direction, contents, polywrap characteristics, and overhang (selvage).

The primary mail types included in the test were folded pieces (e.g., tabloids), paper envelopes, bound edge pieces (e.g., digest-size and perfect-bound magazines and catalogs), and a variety of pieces enclosed in polywrap. Other types of mailpieces were also included in the test, such as newspapers, self-mailers, CD/DVD disks, very thin pieces, very thick pieces, and the extremes of enveloped and folded mailpieces. Each test deck had varying characteristics including length, width, thickness, structure, polywrap, overhang (selvage), seam, and wrap direction.

This test was designed to define acceptable physical mailpiece characteristics and polywrap characteristics. The results from the pilot test in Baltimore eliminated some obvious mailpieces with specific characteristics for the second test in Denver (e.g., odd-shaped envelopes and cards, pieces of non-uniform thickness, and pieces in polywrap with film-on-film coefficient of friction measuring greater than 0.5).

Mailpieces tested in Denver included most types tested in Baltimore, as well as digest-size pieces, perfect-bound and stitched magazines and catalogs, and unbound newspapers. The tabloid and digest-size pieces ranged from 8 pages to 220 pages, with cover pages of varying basis weights. Other pieces used for this test included pieces bound on the short end, pieces with special cover folds (e.g., French doors, gatefolds), and pieces enclosed in 19 different types of polywrap. In addition to evaluating the polywrap characteristics, the Postal Service processed pieces to test the effects of overhang (selvage), seam, and wrap direction.

Data from these two tests have shown that the majority of the standards for physical dimensions—height, length, and thickness—developed for flats processed on the FSM 881 still apply to flats processed on the AFSM 100. On the basis of these findings, the Postal Service sets forth these dimensional requirements to qualify for AFSM 100 automation rates for flats:

• Minimum: 5 inches high, 6 inches long, 0.009 inch thick.

• Maximum: 12 inches high, 15 inches long, 0.75 inch thick.

The length and height is not determined by the orientation of the delivery address. For a piece with a bound, folded, or closed edge (e.g., a newspaper, folded envelope, tabloid, or catalog), the length is the dimension parallel to the bound, folded, or closed edge. The height (vertical dimension) is the dimension perpendicular to the length. If the piece is folded more than once or is bound and then folded, the length of the piece is based on the final fold.

For a mailpiece processed on the AFSM 100, the correct and properly prepared POSTNET barcode must be placed at least ⅛ inch from any edge of the piece and must meet the appropriate barcode requirements in DMM C840.

Analysis from all three tests identified a maximum weight of 20 ounces for AFSM 100 enveloped, bound, and polywrapped flat mailpieces. This maximum will allow more Bound Printed Matter (BPM) pieces, which primarily weigh 16 ounces or more, to qualify as barcoded flats. The new rates under R2001-1 will include separate rates for BPM flats and parcels. BPM flats that meet the AFSM 100 mail characteristics and criteria will be eligible for a new barcode discount of 3 cents. Therefore, defining a “flat” will have significant impact on mailpiece design and rate eligibility.

The test data for polywrapped pieces led to the conclusion that the current seven polywrap standards for the FSM 881 will continue to be required for polywrapped pieces processed on the AFSM 100. A new property number 8, known as “blocking,” will be added. Blocking is simply the property that prevents polywrapped pieces from sticking together. Overhang (selvage) requirements will remain unchanged. Polywrapped flats for which automation rates based on AFSM 100 compatibility are claimed must be individually endorsed to show that they are automation-compatible. The endorsement “USPS AFSM 100 Approved Poly” must be placed on the address side of the piece, either on the flat itself or on the polywrap, preferably below the postage area or in another prominently visible location on the outside of the mailpiece. The polywrap certification process conducted by the mailpiece design analysts will remain the same as current procedures.

Three types of newspapers were tested: Broadsheet, tabloid, and quarter-fold pieces. Analysis of data collected on the processing of these newspapers resulted in the recommendation that all newspapers be prepared as quarter-folds.

The flat mail machinability tester, currently used to test FSM 881 mailpieces for rigidity, flexibility, and turning ability, will continue to be used for pieces processed on the AFSM 100. Although the performance of pieces with flimsy covers did cause some machine jams and damage to the mailpieces, sufficient data have not been collected to determine specific requirements for this type of mailpiece.

These changes will be included in both the printed and online versions of DMM Issue 57.

Part A of this document identifies and responds to the comments received on the proposed rule. Part B summarizes the changes to the DMM, followed by the text of the revised DMM standards.

A. Summary of Comments on Proposed Rule

The Postal Service received only seven comments on the April 17, 2002, proposed rule. The parties providing responses represented three industry associations, two polywrap vendors, a major mailer, and a printer.

The specific points raised in the comments are presented below, organized by general comments and by specific comments on particular issues. In addition to receiving numerous comments from the mailing industry, the Postal Service has had extensive ongoing exchanges of viewpoints with representatives of the mailing industry.

1. General Comments

Three comments were received concerning retrofitting the older FSM 1000 with similar feeder mechanisms that are currently on the new AFSM 100. One commenter asked whether the current specifications for the FSM 1000 will change because of the new feeders. Another commenter was hopeful that this change would not negatively restrict the FSM 1000 specifications or curb the eligible mail that can run on these machines. This commenter stated that it would not be desirable to make the FSM 1000s slower primarily from adding more restrictive automatic feeders that would limit which mailpieces can run on the FSM 1000. Although not part of this final rule, engineering officials for the Postal Service report that the feeder for the FSM 1000 is essentially the same feeder used on the new AFSM 100 except for the feed rate of three pieces per second rather than two pieces per second on the AFSM 100. As a consequence, there is a more rapid acceleration of the pieces on the FSM 1000, an acceleration that may require a stronger polywrap.

2. Deflection and Instructions for Flat Mail Machinability Tester

One commenter requested that the DMM continue to show the diagram of the deflection test of flat-size mail and also incorporate separate test instructions for flat-size AFSM 100 deflection standards. The Postal Service has taken this request into consideration and will continue to show the diagram in DMM C820, Exhibit 2.5. Business Mail Acceptance at USPS Headquarters will disseminate to all managers of business mail entry special instructions about the use of the flat mail machinability tester.

3. Basis Weight Test and Torn Covers

One commenter was disappointed and surprised that the Postal Service needs to conduct additional studies to determine whether basis weight for covers is critical enough to require specifications and design requirements. This commenter believed that the Postal Service's efforts to deal with cover problems by retraining employees in proper machine loading technique has served to improve the situation. This commenter also believed that modifying the AFSM 100 feeders (not studying and potentially changing mailpiece requirements) is the right approach to solving this problem. According to Postal Service Engineering, while no plans have been made for further study of basis weight at this time, a team, including publishers, is presently analyzing existing date with the intention of providing guidelines for the construction of catalogs and magazines for optimal compatibility with postal automation.

4. Bound Printed Matter (BPM) Flats

One commenter applauded the Postal Service for providing a flats automated mailstream for BPM and that the AFSM 100 is capable of processing mailpieces weighing up to 20 ounces. Two commenters requested that the Postal Service explore further expansion of the AFSM 100 maximum weight or consider processing BPM flats weighing more than 20 ounces. One commenter expressed concern that because of the proposed weight limit, AFSM 100-compatible perfect bound flats weighing more than 20 ounces would be processed on the FSM 1000. Processing on the FSM 1000 would limit the ability to use FSM 1000s to process pieces that truly cannot be processed on the AFSM 100. According to Postal Service Engineering, more concentration is placed on jam and damage figures rather than miss-face rates. On both enveloped and perfect bound pieces the miss-face rate increases significantly as weight increases. Envelope miss-face rates increase from about 0.5% at 14 ounces to 4% at 20 ounces. Perfect bound pieces increase from about 4% at 10 ounces to 9% at 20 ounces, 13% at 24 ounces, and continue upward as weight increases. Miss-faced pieces also increase downstream processing costs because the addresses are not visible to OCRs or to video encoding staff at the next AFSM 100 handling, requiring manual sorting.

Testing of the impact on the AFSM 100 of processing heavy mailpieces on several AFSM 100s revealed numerous problems with machine performance and safety. Slippage occurred in the torque limiters when mailpiece weights were increased. This slippage causes rapid wear of the limiters and reduces the safety factor in the emergency stop process and can lead to operator injury and machine damage. Machines tested with the carousel completely loaded with heavy pieces, discharged pieces at random throughout the machines.

The Engineering Department contacted Swedish Post, which had been operating their machines at over two kilograms per three slot module (4.4 lbs. Or an average of 24 oz. per slot), and were told that they had experienced quite a few drive chain breaks and other mechanical problems, which were all traced to heavy mail being processed at the time. They have now restricted their systems to less than 1 kilogram per module (less than one pound per slot).

5. Polywrap Blocking Requirement

One commenter expressed disappointment that the new AFSM 100 specifications contain the additional property of blocking rather than a reduction in requirements. This commenter indicated that the industry had expected the AFSM 100 polywrap specifications to be similar to the FSM 1000 specifications. This commenter claimed that the Postal Service knew the industry's expectations when purchasing the AFSM 100 and that a blocking specification would impose significant costs to mailers. The Postal Service has worked with its Engineering Department on this issue and has taken this request into consideration. After several discussions with Engineering, the Postal Service will require <15 blocking factor for automatable poly. Testing results have shown that all poly films exceeding the blocking requirement produced the highest doubles rate and the worst jam rates.

6. Mailpiece Identification Statement for Polywrap

One commenter requested that the Postal Service consider an alternative to the printed endorsement identifying polywrap pieces as either FSM 881 or FSM 1000. In addition, this commenter mentioned that if the Postal Service intends to change the required FSM 881 endorsement to an AFSM 100 endorsement, the industry should be given a sufficient grace period to use up existing inventories of printed polywrap material. In the proposed rule published in the Federal Register, the Postal Service specifically described revising the endorsement from the FSM 881 to the AFSM 100. The Postal Service will require the mailpiece identification markings differentiating AFSM 100 from FSM 1000 polywraps for various reasons. Business mail entry employees must be able to determine whether the correct polywrap is being used to qualify mailpieces for the automation rates. The Postal Service does understand the comments received regarding polywrap in stock and supply. Therefore, a 6-month grace period will be provided. Mailers with an abundance of polywrap containing the FSM 881 endorsement must request an extension of time, based on the amount of polywrap in stock, to the Manager, Rates and Classification Service Center (RCSC), in the designated area as shown in DMM G042.

7. Addressing Guidelines

One commenter expressed concern, although not part of this Federal Register, that the Postal Service is working on addressing guidelines and could impose these guidelines as requirements at some future date. This commenter stated that any addressing requirements not be imposed until the Postal Service has performed statistical tests of the requirements to demonstrate that there will be clear benefits to possible new addressing standards. A Flats Addressing Committee was created and consisted of both industry and postal personnel working on addressing guidelines and a communications plan. This cooperative effort has led to a final version of the guidelines, and Postal Service Engineering has validated that adherence to these guidelines will yield the desired result of high readability on the AFSM 100. High automation readability yields both low cost and high quality processing, allowing the Postal Service to hold down operating costs and provide consistent on-time delivery. Address block placement is also incorporated into these guidelines, with the intention of adding efficiency to delivery operations. Furthermore, if the Postal Service finds it necessary to turn any of these guidelines into requirements, the industry will definitely be involved in the decision-making process.

8. Overhang

One commenter inquired whether the lettershops are in agreement with the 1/4 inch (0.25 inch) overhang requirement. The Postal Service consulted with Postal Service Engineering, and based on a review of testing data, the requirement of 1/4 inch (0.25 inch) on each side of the mailpiece will remain unchanged. The Postal Service received no comments from lettershops about this requirement.

9. Polywrap Recertification Process

One commenter stated that his poly film meets the standard for the AFSM 100 and asked whether he needs to supply a new data sheet to the mailpiece design analysts in order to be listed again as an approved vendor. The polywrap certification program requires plastic manufacturers to provide to the producer of the polywrapped flats an official ASTM certification of performance verifying that their polywrap products meet the physical properties described in DMM C820, Exhibit 4.1a. A new requirement, blocking, has been added to the existing seven properties required for automatable polywrap. Therefore, a recertification process will be established in which polywrap vendors currently listed on the Postal Service RIBBS web page will be required to submit an official ASTM certificate reflecting the eight properties now required for automatable polywrap when processed on the AFSM 100.

10. Final Fold

One commenter proposed that the Postal Service reconsider the revision to the final fold requirement in DMM C820.2.2 that changes the orientation of the mailpiece from one with the final fold at the right and the intermediate fold at the bottom to one with the final fold at the bottom and the intermediate fold to the right. This commenter stated that this revised requirement would change the side of the book on which ink jet is applied and also claimed that mailers/printers will need to retrofit their equipment to be able to spray the ink jet up, instead of down, on these types of pieces and then on the balance of the ink-jetted material. Postal Service Engineering has reviewed the test results and has concluded that folded tabloids are clearly different from bound publications in the thickness of material and that the final fold can leave material at the fold prone to separation at induction. Because “left” folded pieces, with the open end going into the feeder, are problematic and this is the reason why the “right” fold requirement is needed.

11. Polywrap Properties

One commenter requested the Postal Service to reconsider the current and proposed polywrap requirements relating to predicted “fitness-for-use” for automatic mail sorting. This commenter stated that property # 3, secant modulus, is not a good indicator of sorting performance for flats wrapped in “shrink” polywrap, especially high performance polyolefin shrink films where peak free shrink is greater than 50%. This commenter also requested that property #6, nominal gauge, be eliminated and that the proposed property # 8, blocking (ASTM D3354-96), will not accurately predict polywrap performance. Postal Service Engineering reviewed these comments and maintains that the extensive testing performed concluded that high modulus characteristics are necessary for nonshrink polywrap. In addition, the nominal gauge property will not be eliminated because considerable field testing data clearly show that >0.001 inch is the most acceptable dimension to specify. Engineering also maintains that, after extensive field testing in accordance with ASTM D3354-96, the results were very clear. Above 15 grams of film from film separation showed a significant increase in the doubles rate. It would be impractical and cost prohibitive to test different kinds of films within the family of film wrapping materials. Engineering addressed the opinion on the proposed use of ASTM D3354-96 for Postal Service polywrap certification. Engineering is aware that the ASTM D3354-96 says in part that it is not intended to predict and measure for susceptibility to blocking. Engineering carefully followed the specification in line with film-to-film contact, time, weight, temperature, and the results obtained were compared with field tests, leading to the determination that 15 grams is the most favorable number that is acceptable.

B. Summary of Domestic Mail Manual (DMM) Changes and Additions

List of Subjects in 39 CFR Part 111

Postal Service.

For the reasons discussed above, the Postal Service hereby adopts the following amendments to the Domestic Mail Manual (DMM), which is incorporated by reference in the Code of Federal Regulations (CFR). See 39 CFR part 111.

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the following sections of the Domestic Mail Manual (DMM) as set forth below:

C. Characteristics and Content

* * * * *

C800 Automation-Compatible Mail

* * * * *

C820 Flats

* * * * *

1.0 BASIC STANDARDS

[Amend 1.0 by replacing “FSM 881” with “AFSM 100” to read as follows:]

Flats claimed at automation rates must meet the standards in 1.0 through 8.0 and the general and specific standards for mailability and for the class of mail and rates claimed. Pieces may qualify for automation rates either under the dimensions and characteristics for AFSM 100 processing in 2.0 or under the dimensions and characteristics for FSM 1000 processing in 3.0 except for Bound Printed Matter (BPM) flats, which can qualify only under AFSM 100 criteria. If polywrap is used with pieces that meet AFSM 100 criteria in 2.0, the polywrap must also meet all the physical properties in Exhibit 4.1a and Exhibit 4.1b in order to qualify for automation rates for flats. If polywrap is used with pieces that meet FSM 1000 criteria but do not meet all the AFSM 100 criteria, the polywrap needs to meet only physical property number 2 (haze) in Exhibit 4.1a and the criteria in Exhibit 4.1b.

[Amend the heading of 2.0 by replacing “FSM 881” with “AFSM 100” to read as follows:]

2.0 CRITERIA FOR AFSM 100 PROCESSING

2.1 Determining Length and Height

[Amend 2.1 by revising 2.1b to read as follows:]

The length (horizontal dimension) and height (vertical dimension) of an automation-compatible flat-size mailpiece is not determined by the orientation of the address but by the preparation of the piece:

* * * * *

b. For a piece prepared with a bound, folded, or closed edge (e.g., a catalog, a newspaper or tabloid, a folded envelope), the length is the dimension parallel to the bound, folded, or closed edge. The height is the dimension perpendicular to the length. If the piece is folded more than once or is bound and then folded, the length is the dimension parallel to the final fold.

2.2 Final Fold

[Revise 2.2 to read as follows:]

An AFSM 100 flat-size piece with a final fold must be designed so that the address is in view when the final folded edge is at the bottom of the piece and any intermediate bound or folded edge is to the right.

2.3 Shape and Size

[Amend 2.3 by amending 2.3a by replacing “6” with “5” and by revising 2.3b to read as follows:]

Each flat-size piece must be rectangular and:

a. For height, no more than 12 inches and no less than 5 inches high.

b. For length, no more than 15 inches and no less than 6 inches long.

c. For thickness, no more than 0.75 inch and no less than 0.009 inch thick.

[Revise the heading of 2.4 to read as follows:]

2.4 Maximum Weight

[Amend 2.4b by replacing “16 ounces” with “20 ounces” and by adding new 2.4d to read as follows:]

Maximum weight limits are as follows:

a. For First-Class Mail, 13 ounces.

b. For Periodicals, 20 ounces.

c. For Standard Mail, under 16 ounces.

d. For Bound Printed Matter, 20 ounces.

2.5 Turning Ability and Deflection

[Amend 2.5 by adding introductory sentence and revising 2.5b. to read as follows:]

The piece must meet the following standards for turning ability and deflection:

* * * * *

b. Deflection. A flat-size mailpiece meeting the AFSM 100 dimensions must be rigid enough so that, when placed flat on a surface to extend unsupported 5 inches off that surface, no part of the edge of the piece that is opposite the bound, folded, or final folded edge (as applicable) deflects more than 1¾ inches (if the piece is less than ⅛ inch thick) or more than 2⅜ inches (if the piece is from ⅛ to ¾ inch thick).

[Amend 2.5c by replacing “USPS area or district customer service support offices” with “USPS area or district marketing office or local postmaster” to read as follows:]

c. Test Device. Testing for compliance with the above standards must be done with a flat mail machinability tester constructed to USPS specification USPS-STD-28 and following the instructions for use of that device. Information about obtaining or using the tester is available from the local USPS area or district marketing office or local postmaster.

3.0 CRITERIA FOR FSM 1000 FLATS

* * * * *

3.2 Address Placement and Folded Pieces

[Revise 3.2a and 3.2b to read as follows:]

The following requirements apply to folded pieces:

a. A flat-size piece with a final fold must be designed so that the address is in view when the final folded edge is to the right and any intermediate bound or folded edge is at the bottom of the piece.

b. Unbound flat-sized pieces must be at least double-folded.

* * * * *

[Amend the heading of 4.0 by adding “Polywrap” to read as follows:]

4.0 POLYWRAP COVERINGS

* * * * *

[Amend the heading of Exhibit 4.1a by replacing “FSM 881” with “AFSM 100” to read as follows:]

Exhibit 4.1a AFSM 100 Polywrapped Flats Specifications

[Revise Exhibit 4.1a to read as follows:]

Polywrapped automation flats that meet AFSM 100 criteria in 2.0 must be prepared with polywrap that meets all eight properties in this exhibit. For other pieces prepared with polywrap that do not meet all the criteria for AFSM 100 processing but meet the criteria for FSM 1000 processing in 3.0, the polywrap needs to meet only physical property number 2 (haze).

[Amend Property number 3a and b by reversing requirement column and add new number 8 to read as follows:]

Property | Requirement | Test method | Comment
* * * * * * *
3. Secant Modulus, 1% elongation
a. TD, psi | >50,000 | ASTM D882 |
b. MD, psi | >40,000 | ASTM D882 |
* * * * * * *
8. Blocking, g | <15 | ASTM D3354-96 |

Exhibit 4.1b Wrap Instructions

[Revise Exhibit 4.1b to read as follows:]

1. Wrap direction is specified as the direction around the longer axis of the mailpiece so that the seam is on the addressed side of the mailpiece and oriented parallel to the longest direction. This seam must not cover any part of the address and barcode read areas.

2. a. For an AFSM 100 mailpiece, overhang (selvage) must not be more than 0.75 inch from the top of the mailpiece and 0.75 inch from the bottom of the mailpiece when the contents are centered inside the polywrap. Overhang (selvage) must not be more than 1.5 inches at the top of the mailpiece when the contents are totally positioned at the bottom of the polywrap. Overhang (selvage) on each side must not be more than 0.25 inch. The polywrap covering must not be so tight that it causes the mailpiece to bend.

b. For an FSM 1000 mailpiece, overhang (selvage) must not be more than 0.75 inch from any edge when the mailpiece is centered inside the polywrap. Overhang (selvage) must not be more than 1.5 inches at the top of the mailpiece when the contents are totally positioned at the bottom of the polywrap and not more than 1.5 inches when the contents are totally positioned to the left or to the right side of the polywrap.

4.2 Polywrap Certification Process

[Amend 4.2 by replacing “FSM 881” with “AFSM 100”.]

4.3 Mailpiece Identification

[Amend 4.3 by replacing “FSM 881” with “AFSM 100”.]

* * * * *

4.5 AFSM 100 Polywrap

[Amend the heading and text of 4.5 by replacing “FSM 881” with “AFSM 100”.]

4.6 FSM 1000 Polywrap

[Amend 4.6 by adding the following sentence at the end to read as follows:]

* * * When the address label is placed on the outside of the polywrap, the haze requirement does not apply.

* * * * *

E Eligibility

E000 Special Eligibility Standards

* * * * *

E200 Periodicals

* * * * *

E260 Ride-Along

1.0 BASIC ELIGIBILITY

* * * * *

1.3 Physical Characteristics

[Amend 1.3c by replacing “FSM 881” with “AFSM 100”.]

* * * * *

M MAIL PREPARATION AND SORTATION

* * * * *

M800 All Automation Mail

* * * * *

M820 Flat-Size Mail

1.0 BASIC STANDARDS

* * * * *

1.5 Package Preparation

[Amend 1.5 by replacing “FSM 881” with “AFSM 100”.]

1.6 Sack Preparation

[Amend 1.6 by replacing “FSM 881” with “AFSM 100”.]

* * * * *

1.11 Tray-Based Preparation

[Amend 1.11 by replacing “FSM 881” with “AFSM 100”.]

* * * * *

R RATES AND FEES

* * * * *

R200 Periodicals

1.0 OUTSIDE-COUNTY—EXCLUDING SCIENCE-OF-AGRICULTURE

* * * * *

1.2 Piece Rates

* * * * *

[Amend the footnote by replacing “FSM 881” with “AFSM 100” and “16 ounces” with “20 ounces” to read as follows:]

1. Lower maximum weight limits apply: letter-size at 3 ounces (or 3.3 ounces for heavy letters); flat-size at 20 ounces for enveloped, bound, and polywrapped pieces (AFSM 100) and 6 pounds (FSM 1000).

* * * * *

2.0 OUTSIDE-COUNTY-SCIENCE-OF-AGRICULTURE

* * * * *

2.2 Piece Rates

* * * * *

[Amend the footnote by replacing “FSM 881” with “AFSM 100” and “16 ounces” with “20 ounces” to read as follows:]

1. Lower maximum weight limits apply: letter-size at 3 ounces (or 3.3 ounces for heavy letters); flat-size at 20 ounces for enveloped, bound, and polywrapped pieces (AFSM 100) and 6 pounds (FSM 1000).

* * * * *

3.0 IN-COUNTY

* * * * *

1.2 Piece Rates

* * * * *

[Amend the footnote by replacing “FSM 881” with “AFSM 100” and “16 ounces” with “20 ounces” to read as follows:]

1. Lower maximum weight limits apply: letter-size at 3 ounces (or 3.3 ounces for heavy letters); flat-size at 20 ounces for enveloped, bound, and polywrapped pieces (AFSM 100) and 6 pounds (FSM 1000).

An appropriate amendment to 39 CFR 111.3 will be published in the Federal Register to reflect these changes.

Stanley F. Mires,
Chief Counsel, Legislative.

[FR Doc. 02-14824 Filed 6-11-02; 8:45 am]

BILLING CODE 7710-12-P